ENVIRONMENTAL PROTECTION AGENCY

[FRL-6950-6]

Agency Information Collection Activities: Submission for OMB Review; Comment Request, Control Technology Determinations for Constructed and Reconstructed Major Sources of Hazardous Air Pollutants

AGENCY: Environmental Protection Agency (EPA).

ACTION: Notice.

SUMMARY: In compliance with the Paperwork Reduction Act (44 U.S.C. 3501 et seq.), this document announces the following Information Collection Request (ICR) has been forwarded to the Office of Management and Budget (OMB) for review and approval: Control Technology Determinations for Constructed and Reconstructed Major Sources of Hazardous Air Pollutant, EPA ICR No. 1658.03, OMB Control Number 2060-0373, expiration date February 28, 2001. The ICR describes the nature of the information collection its burden and cost; where appropriate, it includes the actual date collection instrument.

DATES: Comments must be submitted on or before April 9, 2001.

ADDRESSES: Send comments, referencing EPA ICR No. 1658.03 and OMB Control No. 2060-0373, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-Mail at Farmer.Sandy@epamail.epa.gov or download off the Internet at http://www.epa.gov/icr and refer to EPA ICR No. 1658.03. For technical questions about the ICR contact Katherine Kaufman at 919-541-0102.

SUPPLEMENTARY INFORMATION: Title: Control Technology Determinations for Constructed and Reconstructed Major Sources of Hazardous Air Pollutant, OMB Control Number 2060-0373, EPA ICR Number 1658.03, expiration date February 28, 2001. This is a request for extension of a currently approved collection.

Abstract: Section 112(g)(2)(B) of the Clean Air Act as amended in 1990 requires that maximum achievable control technology (MACT), determined on a case-by-case basis, be met by constructed or reconstructed major sources of hazardous air pollutants. In order to receive a permit to construct or reconstruct a major source, the applicant must conduct the necessary research, perform the appropriate analyses and prepare the permit application with documentation to demonstrate that their project meets all applicable statutory and regulatory requirements. Permitting agencies, either State, local or Federal, review and approve or disapprove the permit application. Specific activities and requirements are listed and described in the Supporting Statement for the ICR.

The information collected in the section 112(g) applications provides (for the purposes of compliance determination) documentation of the selection of a particular control technology for case-by-case MACT. Applications are reviewed by a state or local agency for which authority has been delegated by EPA to make the requisite determinations. In addition, EPA will review some applications as an oversight function.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection was published on December 15, 2000. No comments were received concerning the ICR renewal.

Burden Statement: The annual public reporting and recordkeeping burden for this collection of information is estimated to average 153 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are those who must submit an application for a permit to construct or reconstruct a major source of hazardous air pollution, permitting agencies who review the permit applications, and EPA staff who review some permitting authority decisions.

Estimated Number of Respondents: 3,000.

Frequency of Response: On occasion.

Estimated Total Annual Hour Burden: 92,210.

Estimated Total Annualized Capital, O&M Cost Burden: 0.

Send comments on the Agency's need for this information, the accuracy of the provided burden estimates, and any suggested methods for minimizing respondent burden, including through the use of automated collection techniques to the addresses listed above. Please refer to EPA ICR No. 1658.03 and OMB Control No. 2060-0373 in any correspondence.

Dated: February 27, 2001.
Oscar Morales,
Director, Collection Strategies Division.

[FR Doc. 01-5859 Filed 3-8-01; 8:45 am]

BILLING CODE 6560-50-U